Proclamation 7920 of August 29, 2005

National Prostate Cancer Awareness Month, 2005

By the President of the United States of America

A Proclamation

Prostate cancer is the second leading cause of cancer-related deaths among American men. This year, thousands of men will be diagnosed with prostate cancer, and thousands will die from the disease. While great strides have been made in the battle against prostate cancer, we have more work to do. During National Prostate Cancer Awareness Month, we renew our commitment to fight prostate cancer by finding better ways to prevent, detect, and treat this deadly disease.

My Administration is committed to funding research for prevention and better treatments for prostate cancer. This year, the National Institutes of Health will invest an estimated $381 million in prostate cancer research, including $310 million at the National Cancer Institute. The Department of Defense's Prostate Cancer Research Program will spend an estimated $85 million, and the Centers for Disease Control and Prevention will devote an estimated $14 million toward prostate cancer research. Scientists are examining risk factors to identify ways to prevent prostate cancer, and they are finding ways to detect this disease earlier, when it is easier to treat. In addition, newer treatments are helping to slow or stop the spread of prostate cancer in men with advanced stages of the disease. This progress offers hope to men who are living with prostate cancer and those who are at risk.

As we observe National Prostate Cancer Awareness Month, I encourage all men, especially those over the age of 50, to talk with their doctors about the risk of prostate cancer and the appropriate screenings. I commend those who fight this disease, and I applaud the dedication of researchers, health care providers, and all who are working to increase our knowledge of prostate cancer. By raising awareness and supporting research, we can save lives.

NOW, THEREFORE, I, GEORGE W. BUSH, President of the United States of America, by virtue of the authority vested in me by the Constitution and laws of the United States, do hereby proclaim September 2005 as National Prostate Cancer Awareness Month. I call upon government officials, businesses, communities, health care professionals, educators, volunteers, and all people of the United States to reaffirm our Nation's strong and continuing commitment to treat and prevent prostate cancer.

IN WITNESS WHEREOF, I have hereunto set my hand this twenty-ninth day of August, in the year of our Lord two thousand five, and of the Independence of the United States of America the two hundred and thirtieth.

B

[FR Doc. 05-17498

Filed 8-30-05; 10:36 am]

Billing code 3195-01-P